DEPARTMENT OF COMMERCE

Foreign-Trade Zones Board

[B-37-2019]

Foreign-Trade Zone (FTZ) 230—Piedmont Triad Area, North Carolina; Notification of Proposed Production Activity; MVP International Group, Inc.; (Candles, Reed Diffusers, Wax Melts); Elkin and Boonville, North Carolina

The Piedmont Triad Partnership, grantee of FTZ 230, submitted a notification of proposed production activity to the FTZ Board on behalf of MVP International Group, Inc. (MVP), located at sites in Elkin and Boonville, North Carolina. The notification conforming to the requirements of the regulations of the FTZ Board (15 CFR 400.22) was received on May 24, 2019.

The MVP facilities are located within Subzone 230G. The facilities are used for the production of candles, reed diffusers and wax melts. Pursuant to 15 CFR 400.14(b), FTZ activity would be limited to the specific foreign-status materials and components and specific finished products described in the submitted notification (as described below) and subsequently authorized by the FTZ Board.

Production under FTZ procedures could exempt MVP from customs duty payments on the foreign-status components used in export production. On its domestic sales, for the foreign-status materials/components noted below, MVP would be able to choose the duty rates during customs entry procedures that apply to candles, reed diffusers and wax melts (duty rate ranges from duty-free to 6%). MVP would be able to avoid duty on foreign-status components which become scrap/waste. Customs duties also could possibly be deferred or reduced on foreign-status production equipment.

The components and materials sourced from abroad include: Palm stearic; plastic lids; wooden bowls and vessels; plastic bottles, flasks and containers; glass candle holders; glass jars, bottles and containers; metal lids of tin, aluminum, and steel; wood lids; cement jars; cork lids; ceramic jars and containers; mineral oil; reed (rattan); ceramic bottles and containers; acetate packing; and, aromatic wax (duty rate ranges from duty-free to 30%).

The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is July 15, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: May 28, 2019.
Andrew McGilvray,
Executive Secretary.

[FR Doc. 2019-11478 Filed 5-31-19; 8:45 am]

BILLING CODE 3510-DS-P